DEPARTMENT OF COMMERCE

National Oceanic and Atmospheric Administration

50 CFR Part 622

[Docket No. 0907271173-0629-03]

RIN 0648-XC672

Snapper-Grouper Fishery of the South Atlantic; 2013 Recreational Accountability Measure and Closure for South Atlantic Snowy Grouper

AGENCY: National Marine Fisheries Service (NMFS), National Oceanic and Atmospheric Administration (NOAA), Commerce.

ACTION: Temporary rule; closure.

SUMMARY: NMFS implements accountability measures (AMs) for the recreational sector of snowy grouper in the South Atlantic for the 2013 fishing year through this temporary rule. Average recreational landings from 2010-2012 exceeded the recreational annual catch limit (ACL) for snowy grouper. To account for this overage, this rule reduces the length of the 2013 recreational fishing season. Therefore, NMFS closes the recreational sector for snowy grouper on May 31, 2013. This closure is necessary to protect the snowy grouper resource.

DATES: This rule is effective 12:01 a.m., local time, May 31, 2013, until 12:01 a.m., local time, January 1, 2014.

FOR FURTHER INFORMATION CONTACT: Catherine Hayslip, telephone: 727-824-5305, email: Catherine.Hayslip@noaa.gov.

SUPPLEMENTARY INFORMATION: The snapper-grouper fishery of the South Atlantic, which includes snowy grouper, is managed under the Fishery Management Plan for the Snapper-Grouper Fishery of the South Atlantic Region (FMP). The FMP was prepared by the South Atlantic Fishery Management Council and is implemented under the authority of the Magnuson-Stevens Fishery Conservation and Management Act (Magnuson-Stevens Act) by regulations at 50 CFR part 622.

The recreational ACL for snowy grouper is 523 fish. In accordance with regulations at 50 CFR 622.193(b)(2), if the recreational ACL is exceeded, the Assistant Administrator, NMFS (AA) will file a notification with the Office of the Federal Register to reduce the length of the following fishing season by the amount necessary to ensure landings do not exceed the recreational ACL in the following fishing year. Additionally, the most recent 3-year running average of recreational landings is compared to the recreational ACL. For the 2013 fishing year, the average of 2010-2012 recreational landings is compared to the recreational ACL. Average landings from 2010-2012 exceeded the 2012 ACL by 882 fish on average. Therefore, this temporary rule implements the post-season AM to reduce the fishing season for the recreational snowy grouper component of the snapper-grouper fishery in 2013. As a result, the recreational sector for snowy grouper will be closed effective 12:01 a.m., local time May 31, 2013.

During the closure, the bag and possession limit for snowy grouper in or from the South Atlantic exclusive economic zone is zero. The recreational sector for snowy grouper will reopen on January 1, 2014, the beginning of the 2014 recreational fishing season.

Classification

The Regional Administrator, Southeast Region, NMFS, (RA) has determined this temporary rule is necessary for the conservation and management of the South Atlantic snowy grouper component of the South Atlantic snapper-grouper fishery and is consistent with the Magnuson-Stevens Act, the FMP, and other applicable laws.

This action is taken under 50 CFR 622.193(b)(2) and is exempt from review under Executive Order 12866.

These measures are exempt from the procedures of the Regulatory Flexibility Act because the temporary rule is issued without opportunity for prior notice and comment.

Pursuant to 5 U.S.C. 553(b)(B), there is good cause to waive the requirements to provide prior notice and opportunity for public comment on this temporary rule. Such procedures are unnecessary because the AMs established by Amendment 17B to the FMP (75 FR 82280, December 30, 2010) and located at 50 CFR 622.193(b)(2) have already been subject to notice and comment and authorize the AA to file a notification with the Office of the Federal Register to reduce the duration of the recreational fishing season the following fishing year if an ACL overage occurs. All that remains is to notify the public of the reduced recreational fishing season for snowy grouper for the 2013 fishing year. Additionally, there is a need to immediately notify the public of the reduced recreational fishing season for snowy grouper for the 2013 fishing year, to prevent snowy grouper recreational harvest from further exceeding the ACL, which will help protect the South Atlantic snowy grouper resource. Also, providing prior notice and opportunity for public comment on this action would be contrary to the public interest because many of those affected by the length of the recreational fishing season, particularly charter vessel and headboat operations, book trips for clients in advance and, therefore need as much time as possible to adjust business plans to account for the reduced recreational fishing season.

For the aforementioned reasons, the AA also finds good cause to waive the 30-day delay in the effectiveness of this action under 5 U.S.C. 553(d)(3).

Authority: 16 U.S.C. 1801 et seq.

Dated: May 20, 2013.
Emily H. Menashes,
Deputy Director, Office of Sustainable Fisheries, National Marine Fisheries Service.

[FR Doc. 2013-12321 Filed 5-22-13; 8:45 am]

BILLING CODE 3510-22-P